DEPARTMENT OF COMMERCE

National Oceanic and Atmospheric Administration

[I.D. 110606E]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on December 5-6, 2006. The Council will convene on Tuesday, December 5, 2006, from 9 a.m. to 5 p.m., and the Administrative Committee will meet from 5:15 p.m. to 6 p.m., on that same day. The Council will reconvene on Wednesday, December 6, 2006, from 9 a.m. to 5 p.m., approximately.

ADDRESSES: The meetings will be held at Marriott Frenchman's Reef Hotel, #5 Estate Bakkeroe, St. Thomas, U.S.V.I.

FOR FURTHER INFORMATION CONTACT: Caribbean Fishery Management Council, 268 Munoz Rivera Avenue, Suite 1108, San Juan, Puerto Rico 00918-1920, telephone: (787) 766-5926.

SUPPLEMENTARY INFORMATION: The Council will hold its 123rd regular public meeting to discuss the items contained in the following agenda:

December 5, 2006, 9 a.m. - 5 p.m.

Call to Order

Adoption of Agenda

Consideration of 122nd Council Meeting Verbatim Transcription

Executive Director's Report

New Data and Analysis U.S.V.I. Fishery - David Olsen

Update Caribbean Spiny Lobster Minimum Size

Highly Migratory Species - Jackie Wilson

HMS Subcommittee

Effective Outreach and Education Program

St. Croix EEZ Working Group Meeting Report - Virdin Brown

December 5, 2006, 5:15 p.m. - 6 p.m.

Administrative Committee Meeting

AP/SSC/HAP Membership

Budget 2006, 2007

Coral Reef Research - Five year plan

COLA Reduction

Contract between Caribbean Fishery Management Council (CFMC) and Rosenstiel School of Marine and Atmospheric Science University of Miami

Other Business

December 6, 2006, 9 a.m. - 5 p.m.

Workshop on Derelict Fishing Gear in the Caribbean - Cynthia K. Van Holle

Enforcement Reports

Puerto Rico

U.S. Virgin Islands

NOAA

U.S. Coast Guard

Administrative Committee Recommendations (December 5, 2006 meeting)

Meetings Attended by Council Members and Staff

Other Business

Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico 00918-2577; telephone: (787) 766-5926, at least 5 days prior to the meeting date.

Dated: November 7, 2006.
Tracey L. Thompson,
Acting Director, Office of Sustainable Fisheries, National Marine Fisheries Service.

[FR Doc. E6-19068 Filed 11-9-06; 8:45 am]

BILLING CODE 3510-22-S